Title 3—

The President

Proclamation 10294 of October 25, 2021

Advancing the Safe Resumption of Global Travel During the COVID-19 Pandemic

By the President of the United States of America

A Proclamation

The continued spread of the SARS-CoV-2 virus that causes coronavirus disease 2019 (COVID-19) is a global threat to our health and safety. COVID-19 has resulted in more than 733,000 deaths in the United States and more than 4,932,000 deaths worldwide. New variants of SARS-CoV-2 have also emerged globally, and variants that are more transmissible or cause more severe disease than the original virus strain are identified by the United States Government SARS-CoV-2 Interagency Group as variants of concern. Globally, as of October 20, 2021, 166 countries have reported cases of the B.1.617.2 (Delta) variant, a variant of concern that spreads more easily than previously discovered variants of SARS-CoV-2. The potential emergence of a variant of high consequence—one that significantly reduces the effectiveness of prevention measures or medical countermeasures—is also a primary public health concern.

It is the policy of my Administration to implement science-based public health measures, across all areas of the Federal Government, to prevent further introduction, transmission, and spread of COVID-19 into and throughout the United States, including from international air travelers. The Centers for Disease Control and Prevention (CDC) within the Department of Health and Human Services has determined that the best way to slow the spread of COVID-19, including preventing infection by the Delta variant, is for individuals to get vaccinated. According to the CDC, vaccinated individuals are 5 times less likely to be infected and 10 times less likely to experience hospitalization or death due to COVID-19 than unvaccinated individuals. Other mitigation measures are also critical to slowing the spread of COVID-19. These measures include testing and mask-wearing, which are particularly important strategies to limit the spread of COVID-19 from asymptomatic and pre-symptomatic individuals, as well as self-quarantining and self-isolating. But vaccination is the most important measure for reducing the risk of COVID-19 transmission and for avoiding severe illness, hospitalization, and death.

Substantial efforts are being made to increase vaccination rates across the globe. The availability of COVID-19 vaccines is rising, and over 6 billion doses have been administered globally. As of October 24, 2021, 29 countries have a COVID-19 vaccination rate higher than 70 percent, many countries are making efforts to encourage COVID-19 vaccination for their populations, and some countries are considering or adding proof of vaccination requirements as conditions for entry. Many low-income countries continue to have limited vaccine availability, but the United States is leading a global effort to donate hundreds of millions of vaccine doses where they are needed the most.

In light of these facts and circumstances, I have determined that it is in the interests of the United States to move away from the country-by-country restrictions previously applied during the COVID-19 pandemic and to adopt an air travel policy that relies primarily on vaccination to advance the safe resumption of international air travel to the United States. This proclamation governs the entry into the United States of noncitizen nonimmigrants—that is, noncitizens who are visiting the United States or otherwise being admitted temporarily—traveling to the United States by air. It suspends the entry of unvaccinated noncitizen nonimmigrants, except in limited circumstances, and it ensures that the entry of unvaccinated noncitizen nonimmigrants is consistent with applicable health and safety determinations made by the Director of the CDC, including a requirement that, where appropriate, such individuals agree and arrange to become fully vaccinated against COVID-19 upon their arrival. My Administration has also taken action, apart from this proclamation, to ensure that noncitizen immigrants are vaccinated prior to air travel to the United States.

Together, these policies aim to limit the risk that COVID-19, including variants of the virus that causes COVID-19, is introduced, transmitted, and spread into and throughout the United States, potentially overwhelming United States healthcare and public health resources, endangering the health and safety of the American people, and threatening the security of our civil aviation system. Given the resumption of air travel as worldwide restrictions due to the COVID-19 pandemic begin to ease, these policies will, consistent with the measures required by Executive Order 13998 of January 21, 2021 (Promoting COVID-19 Safety in Domestic and International Travel), advance the safety and security of the air traveling public, the government personnel responsible for ensuring the security of air travel, and the millions of individuals employed by the United States air travel industry, as well as their families and communities, while also allowing the domestic and global economy to continue its recovery from the effects of the COVID-19 pandemic.

NOW, THEREFORE, I, JOSEPH R. BIDEN JR., President of the United States, by the authority vested in me by the Constitution and the laws of the United States of America, including sections 1182(f) and 1185(a) of title 8, United States Code, and section 301 of title 3, United States Code, hereby find that it is in the interests of the United States to advance the resumption of international travel to the United States, provided necessary health and safety protocols are in place to protect against the further introduction, transmission, and spread of COVID-19 into and throughout the United States. I further find that vaccination requirements are essential to advance the safe resumption of international travel to the United States and that the unrestricted entry of persons described in section 2 of this proclamation would, except as provided for in section 3(a) of this proclamation, be detrimental to the interests of the United States, and that their entry should be subject to certain restrictions, limitations, and exceptions. I therefore hereby proclaim the following:

Section 1. Revocation of Country-Specific Suspensions and Limitations on Entry. Proclamation 9984 of January 31, 2020 (Suspension of Entry as Immigrants and Nonimmigrants of Persons Who Pose a Risk of Transmitting 2019 Novel Coronavirus and Other Appropriate Measures To Address This Risk), Proclamation 9992 of February 29, 2020 (Suspension of Entry as Immigrants and Nonimmigrants of Certain Additional Persons Who Pose a Risk of Transmitting 2019 Novel Coronavirus), Proclamation 10143 of January 25, 2021 (Suspension of Entry as Immigrants and Nonimmigrants of Certain Additional Persons Who Pose a Risk of Transmitting Coronavirus Disease 2019), and Proclamation 10199 of April 30, 2021 (Suspension of Entry as Nonimmigrants of Certain Additional Persons Who Pose a Risk of Transmitting Coronavirus Disease 2019), are revoked.

Sec. 2. Global Suspension and Limitation on Entry of Certain Individuals Who Are Not Fully Vaccinated Against COVID-19. (a) The entry into the United States by air travel of noncitizens who are nonimmigrants and who are not fully vaccinated against COVID-19 is suspended and limited, except as provided in section 3 of this proclamation. This suspension and limitation on entry applies only to air travelers to the United States and does not affect visa issuance.

(b) Any noncitizen who is a nonimmigrant, who is not fully vaccinated against COVID-19, and who, notwithstanding section 2(a) of this proclamation, is permitted to enter the United States by air travel pursuant to section 3(b) of this proclamation must agree to comply with applicable public health precautions established by the Director of the CDC to protect against the public health risk posed by travelers entering into the United States. Such precautions may be related to vaccination, testing, mask-wearing, self-quarantine, and self-isolation, as determined by the Director of the CDC, and may include requirements that individuals:

(i) provide proof of pre-departure testing for COVID-19, as determined by the Director of the CDC;

(ii) take precautions during air travel to protect against the further introduction, transmission, and spread of COVID-19, including by wearing a face mask, as determined by the Director of the CDC;

(iii) provide proof of having arranged for post-arrival testing for COVID-19, as determined by the Director of the CDC; and

(iv) provide proof of having arranged to self-quarantine or self-isolate after arriving in the United States, as determined by the Director of the CDC.

(c) Any noncitizen who is a nonimmigrant, who is not fully vaccinated against COVID-19, and who, notwithstanding section 2(a) of this proclamation, is permitted to enter the United States by air travel pursuant to section 3(b) of this proclamation must agree to become fully vaccinated against COVID-19 within 60 days of arriving in the United States, within some other timeframe as determined by the Director of the CDC, or as soon as medically appropriate as determined by the Director of the CDC, and must provide proof of having arranged to become fully vaccinated against COVID-19 after arriving in the United States, unless:

(i) the noncitizen's intended stay is sufficiently brief, as determined by the Director of the CDC;

(ii) the noncitizen is one for whom, given their age, requiring vaccination would be inappropriate, as determined by the Director of the CDC;

(iii) the noncitizen has participated or is participating in certain clinical trials for COVID-19 vaccination, as determined by the Director of the CDC;

(iv) COVID-19 vaccination is medically contraindicated for the noncitizen, as determined by the Director of the CDC;

(v) the noncitizen is described in section 3(b)(i) or 3(b)(ii) of this proclamation and has previously received a COVID-19 vaccine that is authorized or approved by the noncitizen's country of nationality, as determined by the Director of the CDC, in consultation with the Secretary of State; or

(vi) the Director of the CDC otherwise determines that COVID-19 vaccination is not warranted for the noncitizen.

Sec. 3. Scope of Suspension and Limitation on Entry. (a) The suspension and limitations on entry in section 2 of this proclamation shall not apply to any noncitizen seeking entry as a crew member of an airline or other aircraft operator if such crew member or operator adheres to all industry standard protocols for the prevention of COVID-19, as set forth in relevant guidance for crew member health issued by the CDC or by the Federal Aviation Administration in coordination with the CDC.

(b) The suspension and limitations on entry in section 2(a) of this proclamation shall not apply to:

(i) any noncitizen seeking entry into or transiting the United States pursuant to one of the following nonimmigrant visa classifications: A-1, A-2, C-2, C-3 (as a foreign government official or immediate family member of an official), E-1 (as an employee of TECRO or TECO or the employee's immediate family members), G-1, G-2, G-3, G-4, NATO-1 through NATO-4, or NATO-6 (or seeking to enter as a nonimmigrant in one of those NATO classifications);

(ii) any noncitizen whose travel falls within the scope of section 11 of the United Nations Headquarters Agreement or who is traveling pursuant to United States legal obligation (as evidenced by a letter of invitation from the United Nations or other documentation showing the purpose of such travel);

(iii) any noncitizen for whom, given their age, requiring vaccination would be inappropriate, as determined by the Director of the CDC, taking into account global vaccine availability for individuals in that age group;

(iv) any noncitizen who has participated or is participating in certain clinical trials for COVID-19 vaccination, as determined by the Director of the CDC;

(v) any noncitizen for whom accepted COVID-19 vaccination is medically contraindicated, as determined by the Director of the CDC;

(vi) any noncitizen who has been granted an exception by the Director of the CDC for humanitarian or emergency reasons, as determined by the Director of the CDC;

(vii) any noncitizen who is a citizen of a foreign country where the availability of COVID-19 vaccination is limited, as identified pursuant to section 4(a)(v) of this proclamation, and who seeks to enter the United States pursuant to a nonimmigrant visa, except for a B-1 or B-2 visa;

(viii) any noncitizen who is a member of the United States Armed Forces or who is a spouse or child of a member of the United States Armed Forces;

(ix) any noncitizen seeking entry as a sea crew member traveling pursuant to a C-1 and D nonimmigrant visa, if such crew member adheres to all industry standard protocols for the prevention of COVID-19, as set forth in relevant guidance for crew member health by the CDC; or

(x) any noncitizen or group of noncitizens whose entry would be in the national interest, as determined by the Secretary of State, the Secretary of Transportation, the Secretary of Homeland Security, or their designees.

Sec. 4. Implementation and Enforcement. (a) The Secretary of Health and Human Services, through the Director of the CDC, shall implement this proclamation as it applies to the public health through such procedures as may be established, and consistent with the CDC's independent public health judgment, including by:

(i) defining and specifying accepted COVID-19 vaccines or combinations of accepted COVID-19 vaccines, and medical contraindications to accepted COVID-19 vaccines or combinations of accepted COVID-19 vaccines, for purposes of this proclamation;

(ii) defining whether an individual is fully vaccinated against COVID-19, and specifying acceptable methods of proving that an individual is fully vaccinated against COVID-19, for purposes of this proclamation;

(iii) specifying acceptable methods of proving that an individual has arranged to comply with applicable public health requirements and protocols to protect against the further introduction, transmission, and spread of COVID-19 into and throughout the United States, including pre-departure testing, post-arrival testing, post-arrival self-quarantine or self-isolation, and post-arrival vaccination against COVID-19, for purposes of this proclamation;

(iv) determining whether certain persons qualify as participants in certain clinical trials for COVID-19 vaccination, for purposes of this proclamation;

(v) maintaining a list of countries where the availability of COVID-19 vaccination is limited, with such countries defined as those where less than 10 percent of the country's total population has been fully vaccinated with any available COVID-19 vaccine or are otherwise determined by the Director of the CDC to qualify as countries where the availability of COVID-19 vaccination is limited; and

(vi) establishing other public health measures consistent with this proclamation to protect against the further introduction, transmission, and spread of COVID-19 into and throughout the United States by persons described in section 2 of this proclamation.

(b) The Secretary of Transportation and the Secretary of Homeland Security shall take steps to ensure that airlines do not permit noncitizens barred from entry pursuant to this proclamation to board an aircraft traveling to the United States, to the extent permitted by law.

(c) Executive departments and agencies shall implement this proclamation, as appropriate and consistent with applicable law, in accordance with such procedures as they may establish.

(d) The Secretary of State, the Secretary of Transportation, and the Secretary of Homeland Security shall review any regulations, orders, guidance documents, policies, and any other similar agency actions developed pursuant to Proclamations 9984, 9992, 10143, and 10199 and, as appropriate, shall consider revising or revoking these agency actions consistent with the policy set forth in this proclamation.

(e) Nothing in this proclamation shall be construed to affect any individual's eligibility for asylum, withholding of removal, or protection under the regulations issued pursuant to the legislation implementing the Convention Against Torture and Other Cruel, Inhuman or Degrading Treatment or Punishment, consistent with the laws and regulations of the United States.

(f) Nothing in this proclamation shall be construed to limit the CDC's authority to impose public health requirements and protocols, including on individuals who are fully vaccinated against COVID-19, individuals covered by this proclamation, or individuals not covered by this proclamation, such as United States citizens, lawful permanent residents, or noncitizens traveling on immigrant visas.

Sec. 5. Termination. This proclamation shall remain in effect until terminated by the President. The Secretary of Health and Human Services shall, as circumstances warrant and no more than 60 days after the date of this proclamation and by the final day of each calendar month thereafter, recommend whether the President should continue, modify, or terminate this proclamation.

Sec. 6. Effective Date. This proclamation is effective at 12:01 a.m. eastern standard time on November 8, 2021. This proclamation does not apply to persons aboard a flight scheduled to arrive in the United States that departed prior to 12:01 a.m. eastern standard time on November 8, 2021.

Sec. 7. Severability. It is the policy of the United States to enforce this proclamation to the maximum extent possible to advance the national security, public safety, and foreign policy interests of the United States. Accordingly, if any provision of this proclamation, or the application of any provision to any person or circumstance, is held to be invalid, the remainder of this proclamation and the application of its provisions to any other persons or circumstances shall not be affected thereby.

Sec. 8. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this twenty-fifth day of October, in the year of our Lord two thousand twenty-one, and of the Independence of the United States of America the two hundred and forty-sixth.

[FR Doc. 2021-23645

Filed 10-27-21; 8:45 am]

Billing code 3395-F2-P